DEPARTMENT OF HOMELAND SECURITY

Federal Emergency Management Agency

44 CFR Part 67

[Docket ID FEMA-2010-0003; Internal Agency Docket No. FEMA-B-1085]

Proposed Flood Elevation Determinations

AGENCY: Federal Emergency Management Agency, DHS.

ACTION: Proposed rule; correction.

SUMMARY: On February 5, 2010, FEMA published in the Federal Register a proposed rule that contained an erroneous table. This notice provides corrections to that table, to be used in lieu of the information published at 75 FR 5909. The table provided here represents the flooding sources, location of referenced elevations, effective and modified elevations, and communities affected for Webster County, Kentucky, and Incorporated Areas. Specifically, it addresses the following flooding sources: Bailey Ditch (backwater effects from Green River), Deer Creek (backwater effects from Green River), East Fork Deer Creek Tributary 1 (backwater effects from Green River), Green River, Green River Tributary 219 (backwater effects from Green River), Groves Creek (backwater effects from Green River), Knoblick Creek (backwater effects from Green River), Mock Roy Creek (backwater effects from Green River), and Pitman Creek (backwater effects from Green River).

DATES: Comments are to be submitted on or before March 11, 2013.

ADDRESSES: You may submit comments, identified by Docket No. FEMA-B-1085, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 5909, in the February 5, 2010, issue of the Federal Register, FEMA published a table under the authority of 44 CFR 67.4. The table, entitled “Webster County, Kentucky, and Incorporated Areas” addressed the following flooding sources: Bailey Ditch (backwater effects from Green River), Deer Creek (backwater effects from Green River), East Fork Deer Creek Tributary 1 (backwater effects from Green River), Green River, Green River Tributary 219 (backwater effects from Green River), Groves Creek (backwater effects from Green River), Knoblick Creek (backwater effects from Green River), Mock Roy Creek (backwater effects from Green River), and Pitman Creek (backwater effects from Green River). That table contained inaccurate information as to the communities affected for the flooding sources Green River and Mock Roy Creek (backwater effects from Green River). In this notice, FEMA is publishing a table containing the accurate information to address these prior errors. The information provided below should be used in lieu of that previously published.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Webster County, Kentucky, and Incorporated Areas
Bailey Ditch (backwater effects from Green River) | From the confluence with Knoblick Creek to approximately 0.93 mile upstream of the confluence with Knoblick Creek | None | +387 | Unincorporated Areas of Webster County.
Deer Creek (backwater effects from Green River) | From the confluence with East Fork Deer Creek to approximately 1.5 miles upstream of the confluence with East Fork Deer Creek | None | +387 | Unincorporated Areas of Webster County.
East Fork Deer Creek Tributary 1 (backwater effects from Green River) | From the confluence with Deer Creek to approximately 2.7 miles upstream of the confluence with Deer Creek | None | +387 | Unincorporated Areas of Webster County.
Green River | At approximately 1.5 miles downstream of the confluence with Groves Creek | None | +386 | City of Sebree, Unincorporated Areas of Webster County.
| At approximately 5.2 miles upstream of the confluence with Deer Creek | None | +388
Green River Tributary 219 (backwater effects from Green River) | From the confluence with the Green River to approximately 1.5 miles upstream of the confluence with the Green River | None | +387 | Unincorporated Areas of Webster County.
Groves Creek (backwater effects from Green River) | From the confluence with the Green River to approximately 5.9 miles upstream of the confluence with the Green River | None | +386 | Unincorporated Areas of Webster County.
Knoblick Creek (backwater effects from Green River) | From the confluence with Deer Creek to approximately 2.8 miles upstream of the confluence with Deer Creek | None | +387 | Unincorporated Areas of Webster County.
Mock Roy Creek (backwater effects from Green River) | From the confluence with the Green River to approximately 2.5 miles upstream of the confluence with the Green River | None | +386 | City of Sebree, Unincorporated Areas of Webster County.
Pitman Creek (backwater effects from Green River) | Approximately 1,690 feet upstream of KY-370 | None | +388 | Unincorporated Areas of Webster County.
| At approximately 3.8 miles upstream of the confluence with the Green River | None | +388
*National Geodetic Vertical Datum.
+North American Vertical Datum.
#Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Sebree
Maps are available for inspection at 36 South Spring Street, Sebree, KY 42455.
Unincorporated Areas of Webster County
Maps are available for inspection at 35 South U.S. Route 41A, Dixon, KY

(Catalog of Federal Domestic Assistance No. 97.022, “Flood Insurance.”)

Dated: November 8, 2012.
James A. Walke,
Acting Deputy Associate Administrator for Mitigation, Department of Homeland Security, Federal Emergency Management Agency.

[FR Doc. 2012-29684 Filed 12-7-12; 8:45 am]

BILLING CODE 9110-12-P